NATIONAL SCIENCE FOUNDATION

Notice of Intent To Seek Approval To Extend an Information Collection

AGENCY: National Science Foundation.

ACTION: Notice and request for comments.

SUMMARY: The National Science Foundation (NSF) is announcing plans to request a new, one time data collection. The primary purpose of this data collection is to provide critical evidence for the Evaluation of the Centers for Chemical Innovation (CCI) Program. The National Science Foundation (NSF) has submitted this information collection requirement to OMB for review and clearance under the Paperwork Reduction Act of 1995. This is the second notice for public comment; the first was published in the Federal Register at 83 FR 27354, and one comments was received. NSF is forwarding the proposed new information collection submission to the Office of Management and Budget (OMB) for clearance simultaneously with the publication of this second notice. The full submission may be found at: http://www.reginfo.gov/public/do/PRAMain.

DATES: Comments regarding these information collections are best assured of having their full effect if received within 30 days of this notification.

FOR FURTHER INFORMATION CONTACT: Office of Information and Regulatory Affairs of OMB, Attention: Desk Officer for National Science Foundation, 725—17th Street, NW Room 10235, Washington, DC 20503, and Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Copies of the submission(s) may be obtained by calling 703-292-7556.

SUPPLEMENTARY INFORMATION: NSF may not conduct or sponsor a collection of information unless the collection of information displays a currently valid OMB control number and the agency informs potential persons who are to respond to the collection of information that such persons are not required to respond to the collection of information unless it displays a currently valid OMB control number.

Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to the points of contact in the FOR FURTHER INFORMATION CONTACT section.

Title of Collection: 2019 National Survey of College Graduates.

OMB Number: 3145-0141.

Summary of Collection: The National Survey of College Graduates (NSCG) has been conducted biennially since the 1970s. The 2019 NSCG sample will be selected from the 2017 American Community Survey (ACS) and the 2017 NSCG, providing coverage of the college graduate population residing in the United States. The purpose of this repeated cross-sectional survey is to collect data that will be used to provide national estimates on the science and engineering workforce and changes in their employment, education, and demographic characteristics.

The National Science Foundation Act of 1950, as subsequently amended, includes a statutory charge to “. . . provide a central clearinghouse for the collection, interpretation, and analysis of data on scientific and engineering resources, and to provide a source of information for policy formulation by other agencies of the Federal Government.” The NSCG is designed to comply with these mandates by providing information on the supply and utilization of the nation's scientists and engineers.

The U.S. Census Bureau, as in the past, will conduct the NSCG for NCSES. The survey data collection will begin in February 2019 using web and mail questionnaires. Non-respondents to the web or mail questionnaire will be followed up by computer-assisted telephone interviewing. The individual's response to the survey is voluntary. The survey will be conducted in conformance with Census Bureau statistical quality standards and, as such, the NSCG data will be afforded protection under the applicable Census Bureau confidentiality statutes.

Use of the Information: NCSES uses the information from the NSCG to prepare congressionally mandated reports such as Women, Minorities and Persons with Disabilities in Science and Engineering and Science and Engineering Indicators. A public release file of collected data, designed to protect respondent confidentiality, will be made available to researchers on the internet.

Expected Respondents: A statistical sample of approximately 148,000 persons will be contacted in 2019. This 148,000 sample is an 18,000 case increase over the sample size listed in the first notice for public comment in the Federal Register at 83 FR 27354. The larger sample size is needed to account for non-response in follow-up rounds, to reduce the variance inflation caused when cases thought to be in non-science and engineering (S&E) occupations turn out to be in S&E occupations, and to increase the number of foreign-earned doctorate recipients in the NSCG sample. NCSES estimates the 2019 NSCG response rate to be 70 to 80 percent.

Estimate of Burden: The amount of time to complete the questionnaire may vary depending on an individual's circumstances; however, on average it will take approximately 30 minutes to complete the survey. NCSES estimates that the total annual burden will be no more than 59,200 hours (=148,000 sample persons × 80% response × 30 minutes) during the 2019 survey cycle.

Comments: As required by 5 CFR 1320.8(d), comments on the information collection activities as part of this study were solicited through the publication of a 60-Day Notice in the Federal Register on 12 June 2018, at 83 FR 27354. NCSES received one comment on 13 August 2018 from a group representing several organizations. The commenters requested that NCSES include measures of sexual orientation and gender identity on the NSCG and on other NCSES surveys (specifically, the Survey of Doctorate Recipients and the Survey of Earned Doctorates). NCSES informed the commenters that it shares their interest in improving federal data collections and providing reliable measures for important segments of the population. Furthermore, NCSES described its process for evaluating possible questionnaire additions, including the extensive experimentation involved and the time and resources required. Finally, NCSES informed the commenters that it is initiating research to evaluate these measures and does not intend to include them in the 2019 NSCG.

Dated: November 9, 2018.
Suzanne H. Plimpton,
Reports Clearance Officer, National Science Foundation.

[FR Doc. 2018-24928 Filed 11-14-18; 8:45 am]

BILLING CODE 7555-01-P